NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on July 11-13, 2007, 11545 Rockville Pike, Rockville, Maryland. The date of this meeting was previously published in the Federal Register on Wednesday, November 15, 2006 (71 FR 66561).

Wednesday, July 11, 2007, Conference Room T-2B3, Two White Flint North, Rockville, Maryland

8:30 a.m.-8:35 a.m.: Opening Remarks by the ACRS Chairman (Open)—The ACRS Chairman will make opening remarks regarding the conduct of the meeting.

8:35 a.m.-10:15 a.m.: Sampling Methodology and Statistical Thresholds for Selecting ITAACs for Inspection (Open)—The Committee will hear presentations by and hold discussions with representatives of the NRC staff regarding the feasibility of the ACRS review of the sampling methodology and statistical thresholds proposed by the NRC staff for selecting Inspections, Tests, Analyses, and Acceptance Criteria (ITAACs) for inspection, and related matters.

10:30 a.m.-12:15 p.m.: Dissimilar Metal Weld Issue (Open)—The Committee will hear presentations by and hold discussions with representatives of the NRC staff and nuclear industry regarding the preliminary results of the advanced finite element analysis performed by the industry to provide basis for leak-before-break.

1:15 p.m.-2:15 p.m.: Activities in the Safeguards and Security Areas (Open/Closed)—The Committee will hear presentations by and hold discussions with representatives of the NRC staff regarding ongoing and planned activities in the safeguards and security areas, items that are expected to be submitted to the ACRS for review, and the associated schedule.

Note: A portion of this session may be closed to protect information classified as National Security Information as well as Safeguards Information pursuant to 5 U.S.C. 552b(c)(1) and (3).

2:30 p.m.-3:30 p.m.: Revisions to Draft Final NUREG-1852, “Demonstrating the Feasibility and Reliability of Operator Manual Actions in Response to Fire” (Open)—The Committee will hear presentations by and hold discussions with representatives of the NRC staff regarding the changes made to draft final NUREG-1852 to address ACRS Comments and recommendations.

3:45 p.m.-6 p.m.: Preparation of ACRS Reports (Open)—The Committee will discuss proposed ACRS reports on matters considered during this meeting, as well as a proposed ACRS report on Technology-Neutral Framework for Future Plant Licensing.

Thursday, July 12, 2007, Conference Room T-2B3, Two White Flint North, Rockville, Maryland

8:30 a.m.-8:35 a.m.: Opening Remarks by the ACRS Chairman (Open)—The ACRS Chairman will make opening remarks regarding the conduct of the meeting.

8:35 a.m.-10:30 a.m.: Draft NUREG-0654, Supplement 3, “Criteria for Protective Action Recommendations for Severe Accidents” (Open)—The Committee will hear presentations by and hold discussions with representatives of the NRC staff regarding draft NUREG-0654, Supplement 3, “Criteria for Protective Action Recommendations for Severe Accidents”.

10:45 a.m.-12:15 p.m.: Browns Ferry Nuclear Plant Unit 1 Restart Activities (Open)—The Committee will hear presentations by and hold discussions with representatives of the NRC staff regarding the findings and recommendations of the Browns Ferry Unit 1 Restart Panel, activities associated with restart, any problems encountered prior to, during, and after restart as well as current status of the plant.

1:15 p.m.-2 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2 p.m.-2:15 p.m.: Reconciliation of ACRS Comments and Recommendations (Open)—The Committee will discuss the responses from the NRC Executive Director for Operations to comments and recommendations included in recent ACRS reports and letters.

2:15 p.m.-2:30 p.m.: Subcommittee Report on State-of-the-Art Reactor Consequence Analysis (SOARCA) Project) (Open)—The Committee will hear a report by and hold discussions with the Chairman of the ACRS Subcommittee on Regulatory Policies and Practices regarding the SOARCA Project that was discussed by the Subcommittee on July 10, 2007.

2:45 p.m.-3:45 p.m.: Status Report on the Quality Assessment of Selected NRC Research Projects (Open)—The Committee will hold discussions with the members of the ACRS Panels regarding the status of the quality assessment of selected NRC research projects.

3:45 p.m.-7 p.m.: Preparation of ACRS Reports (Open)—The Committee will discuss proposed ACRS reports.

Friday, July 13, 2007, Conference Room T-2B3, Two White Flint North, Rockville, Maryland

8:30 a.m.-1 p.m.: Preparation of ACRS Reports (Open)—The Committee will continue discussion of proposed ACRS reports.

1 p.m.-1:30 p.m.: Miscellaneous (Open)—The Committee will discuss matters related to the conduct of Committee activities and matters and specific issues that were not completed during previous meetings, as time and availability of information permit.

Procedures for the conduct of and participation in ACRS meetings were published in the Federal Register on October 2, 2006 (71 FR 58015). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Pub. L. 92-463, I have determined that it may be necessary to close a portion of this meeting to protect information classified as National Security Information as well as Safeguards Information pursuant to 5 U.S.C. 552b ( c) (1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: June 15, 2007.
Andrew L. Bates,
Advisory Committee Management Officer.

[FR Doc. E7-12016 Filed 6-20-07; 8:45 am]

BILLING CODE 7590-01-P